DEPARTMENT OF COMMERCE

Foreign-Trade Zones Board

[B-20-2022]

Foreign-Trade Zone (FTZ) 46—Cincinnati, Ohio; Notification of Proposed Production Activity; Patheon Pharmaceuticals Inc. (Pharmaceutical Products), Cincinnati, Ohio

Patheon Pharmaceuticals Inc. (Patheon) submitted a notification of proposed production activity to the FTZ Board (the Board) for its facilities in Cincinnati, Ohio, within Subzone 46K. The notification conforming to the requirements of the Board's regulations (15 CFR 400.22) was received on May 19, 2022.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include anti-viral tablets (Nirmatrelvir Active Pharmaceutical Ingredient (API)), anti-viral tablets (Molnupiravir API), and insomnia treatment tablets (Suvorexant API) (duty free).

The proposed foreign-status materials and components include: Lactose monohydrate; colloidal silicon dioxide; magnesium stearate; sodium stearyl fumarate; Nirmatrelvir API; Molnupiravir API; Suvorexant API; color film coating formulations containing titanium dioxide (24-50%); desiccant bag (silica gel); crospovidone; croscarmellose sodium; microcrystalline cellulose; hydroxypropyl cellulose; tubing (silicone); pad (polyethylene foam); bags (made of polyethylene); drum (high density polyethylene); plastic pallets; drum (cardboard); wire seal—aluminum; plastic coated wire band; and, capsules (vegetable based vegan capsules) (duty rate ranges from duty-free to 6.5%). The request indicates that certain materials/components are subject to duties under Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is July 5, 2022.

A copy of the notification will be available for public inspection in the “Online FTZ Information System” section of the Board's website.

For further information, contact Diane Finver at Diane.Finver@trade.gov.

Dated: May 20, 2022.
Elizabeth Whiteman,
Acting Executive Secretary.

[FR Doc. 2022-11333 Filed 5-25-22; 8:45 am]

BILLING CODE 3510-DS-P